NATIONAL FOUNDATION ON THE ARTS AND THE HUMANITIES

National Endowment for the Humanities

Meeting of Humanities Panel

AGENCY: National Endowment for the Humanities; National Foundation on the Arts and the Humanities.

ACTION: Notice of Meeting.

SUMMARY: The National Endowment for the Humanities (NEH) will hold one additional meeting, by video conference, of the Humanities Panel, a federal advisory committee, in February 2023, and forty-two meetings during March 2023. Additionally, NEH rescheduled twelve Public Scholars Humanities Panel meetings originally scheduled for February 15, 2023, to later dates in February 2023 and March 2023. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: February 17, 2023

This video meeting will discuss applications for the National Digital Newspaper Program, submitted to the Division of Preservation and Access.

2. Date: February 28, 2023

This video meeting will discuss applications on the topics of Literature and Language, for the Public Scholars grant program, submitted to the Division of Research Programs.

3. Date: March 1, 2023

This video meeting will discuss applications on the topic of U.S. History, for the Public Scholars grant program, submitted to the Division of Research Programs.

4. Date: March 2, 2023

This video meeting will discuss applications on the topics of Science, Technology, Medicine, and the Environment, for the Public Scholars grant program, submitted to the Division of Research Programs.

5. Date: March 2, 2023

This video meeting will discuss applications on the topic of American Studies, for the Public Scholars grant program, submitted to the Division of Research Programs.

6. Date: March 3, 2023

This video meeting will discuss applications on the topics of History and Religion, for the Public Scholars grant program, submitted to the Division of Research Programs.

7. Date: March 6, 2023

This video meeting will discuss applications for the Climate Smart Humanities Organizations grant program, submitted to the Office of Challenge Programs.

8. Date: March 6, 2023

This video meeting will discuss applications on the topics of Social Sciences, for the Public Scholars grant program, submitted to the Division of Research Programs.

9. Date: March 7, 2023

This video meeting will discuss applications on the topics of Philosophy, Politics, and Law, for the Public Scholars grant program, submitted to the Division of Research Programs.

10. Date: March 7, 2023

This video meeting will discuss applications on the topic of Arts, for the Public Scholars grant program, submitted to the Division of Research Programs.

11. Date: March 8, 2023

This video meeting will discuss applications on the topic of U.S. History, for Public Scholars grant program, submitted to the Division of Research Programs.

12. Date: March 9, 2023

This video meeting will discuss applications for the Climate Smart Humanities Organizations grant program, submitted to the Office of Challenge Programs.

13. Date: March 13, 2023

This video meeting will discuss applications on the topic of Biography, for the Public Scholars grant program, submitted to the Division of Research Programs.

14. Date: March 14, 2023

This video meeting will discuss applications on the topics of Film, Media, and Communications, for the Public Scholars grant program, submitted to the Division of Research Programs.

15. Date: March 14, 2023

This video meeting will discuss applications on the topic of Climate Change, for the Cultural and Community Resilience grant program, submitted to the Division of Preservation and Access.

16. Date: March 17, 2023

This video meeting will discuss applications on the topic of Art Museums, for the Sustaining Cultural Heritage Collections grant program, submitted to the Division of Preservation and Access.

17. Date: March 20, 2023

This video meeting will discuss applications on the topics of Communication and Media Studies, for the Collaborative Research grant program, submitted to the Division of Research Programs.

18. Date: March 21, 2023

This video meeting will discuss applications on the topic of Cultural History, for the Media Projects Production grant program, submitted to the Division of Public Programs.

19. Date: March 21, 2023

This video meeting will discuss applications on the topic of Cultural Anthropology, for the Cultural and Community Resilience grant program, submitted to the Division of Preservation and Access.

20. Date: March 22, 2023

This video meeting will discuss applications on the topic of Humanities Podcasts, for the Media Projects Production grant program, submitted to the Division of Public Programs.

21. Date: March 22, 2023

This video meeting will discuss applications on the topics of History and Philosophy, for the Collaborative Research grant program, submitted to the Division of Research Programs.

22. Date: March 22, 2023

This video meeting will discuss applications on the topics of Native American and Latin American Studies, for the Scholarly Editions and Translations grant program, submitted to the Division of Research Programs.

23. Date: March 23, 2023

This video meeting will discuss applications on the topics of Philosophy and Religion, for the Scholarly Editions and Translations grant program, submitted to the Division of Research Programs.

24. Date: March 23, 2023

This video meeting will discuss applications on the topic of Art History, for the Public Humanities Projects: Exhibitions (Implementation) grant program, submitted to the Division of Public Programs.

25. Date: March 23, 2023

This video meeting will discuss applications on the topic of COVID-19, for the Cultural and Community Resilience grant program, submitted to the Division of Preservation and Access.

26. Date: March 24, 2023

This video meeting will discuss applications on the topic of U.S. History, for the Media Projects Production grant program, submitted to the Division of Public Programs.

27. Date: March 24, 2023

This video meeting will discuss applications on the topics of History and Studies of Africa, Asia, and Europe, for the Collaborative Research grant program, submitted to the Division of Research Programs.

28. Date: March 24, 2023

This video meeting will discuss applications on the topics of Literature and the Arts, for the Collaborative Research grant program, submitted to the Division of Research Programs.

29. Date: March 24, 2023

This video meeting will discuss applications on the topics of European History and Literature, for the Scholarly Editions and Translations grant program, submitted to the Division of Research Programs.

30. Date: March 24, 2023

This video meeting will discuss applications on the topic of History, for the Public Scholars grant program, submitted to the Division of Research Programs.

31. Date: March 27, 2023

This video meeting will discuss applications on the topics of Archaeology, Anthropology, and Studies of Science, for the Collaborative Research grant program, submitted to the Division of Research Programs.

32. Date: March 27, 2023

This video meeting will discuss applications on the topics of Arts and Media, for the Digital Humanities Advancement Grants program, submitted to the Office of Digital Humanities.

33. Date: March 27, 2023

This video meeting will discuss applications on the topics of Libraries and Archives, for the Sustaining Cultural Heritage Collections grant program, submitted to the Division of Preservation and Access.

34. Date: March 28, 2023

This video meeting will discuss applications on the topic of U.S. History, for the Media Projects Production grant program, submitted to the Division of Public Programs.

35. Date: March 28, 2023

This video meeting—the first of four on this date—will discuss applications for the Institutes for Higher Education Faculty grant program, submitted to the Division of Education Programs.

36. Date: March 28, 2023

This video meeting—the second of four on this date—will discuss applications for the Institutes for Higher Education Faculty grant program, submitted to the Division of Education Programs.

37. Date: March 28, 2023

This video meeting—the third of four on this date—will discuss applications for the Institutes for Higher Education Faculty grant program, submitted to the Division of Education Programs.

38. Date: March 28, 2023

This video meeting—the fourth of four on this date—will discuss applications for the Institutes for Higher Education Faculty grant program, submitted to the Division of Education Programs.

39. Date: March 28, 2023

This video meeting—the first of six on this date—will discuss applications for the Institutes for K-12 Educators grant program, submitted to the Division of Education Programs.

40. Date: March 28, 2023

This video meeting—the second of six on this date—will discuss applications for the Institutes for K-12 Educators grant program, submitted to the Division of Education Programs.

41. Date: March 28, 2023

This video meeting—the third of six on this date—will discuss applications for the Institutes for K-12 Educators grant program, submitted to the Division of Education Programs.

42. Date: March 28, 2023

This video meeting—the fourth of six on this date—will discuss applications for the Institutes for K-12 Educators grant program, submitted to the Division of Education Programs.

43. Date: March 28, 2023

This video meeting—the fifth of six on this date—will discuss applications for the Institutes for K-12 Educators grant program, submitted to the Division of Education Programs.

44. Date: March 28, 2023

This video meeting—the sixth of six on this date—will discuss applications for the Institutes for K-12 Educators grant program, submitted to the Division of Education Programs.

45. Date: March 28, 2023

This video meeting will discuss applications on the topics of World Literature and Studies, for the Scholarly Editions and Translations grant program, submitted to the Division of Research Programs.

46. Date: March 28, 2023

This video meeting will discuss applications on the topics of Communication and Social Sciences, for the Collaborative Research grant program, submitted to the Division of Research Programs.

47. Date: March 29, 2023

This video meeting will discuss applications on the topic of U.S. History, for the Public Humanities Projects: Exhibition (Implementation) grant program, submitted to the Division of Public Programs.

48. Date: March 29, 2023

This video meeting will discuss applications on the topics of Philosophy and Social Sciences, for the Collaborative Research grant program, submitted to the Division of Research Programs.

49. Date: March 29, 2023

This video meeting will discuss applications on the topics of History and Studies of the Americas, for the Collaborative Research grant program, submitted to the Division of Research Programs.

50. Date: March 29, 2023

This video meeting will discuss applications on the topics of Collections and Access, for the Digital Humanities Advancement Grants program, submitted to the Office of Digital Humanities.

51. Date: March 30, 2023

This video meeting will discuss applications on the topics of Literature and Arts, for the Collaborative Research grant program, submitted to the Division of Research Programs.

52. Date: March 30, 2023

This video meeting will discuss applications on the topics of American History and Literature, for the Scholarly Editions and Translations grant program, submitted to the Division of Research Programs.

53. Date: March 30, 2023

This video meeting will discuss applications on the topic of U.S. History, for the Media Projects Production grant program, submitted to the Division of Public Programs.

54. Date: March 31, 2023

This video meeting will discuss applications on the topic of Indigenous Studies, for the Public Humanities Projects: Exhibitions (Implementation) grant program, submitted to the Division of Public Programs.

55. Date: March 31, 2023

This video meeting will discuss applications on the topic of Computational Analysis, for the Digital Humanities Advancement Grants program, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: February 9, 2023.
Jessica Graves,
Legal Administrative Specialist, National Endowment for the Humanities.

[FR Doc. 2023-03150 Filed 2-14-23; 8:45 am]

BILLING CODE 7536-01-P